DEPARTMENT OF ENERGY

Federal Energy Regulatory Commission

[Project No. 4254-009]

Stephen Phillips, Brentwood Dam Ventures, LLC; Notice of Transfer of Exemption

1. By letter filed May 31, 2006 and supplemented on January 15, 2013, Stephen Phillips and Brentwood Dam Ventures, LLC informed the Commission that the exemption from licensing for the Exeter River Hydro #1 Project, FERC No. 4254, originally issued December 1, 1981,¹ has been transferred to Brentwood Dam Ventures, LLC. The project is located on the Exeter River in Rockingham County, New Hampshire. The transfer of an exemption does not require Commission approval.

¹ 17 FERC ¶ 62,321, Order Granting Exemption From Licensing of a Small Hydroelectric Project of 5 Megawatts or Less.

2. Brentwood Dam Ventures, LLC, located at 25 Limerick Road, Arundel, ME 04046 is now the exemptees of the Exeter River Hydro #1 Project, FERC No. 4254.

Dated: January 17, 2013.
Kimberly D. Bose,
Secretary.

[FR Doc. 2013-01916 Filed 1-29-13; 8:45 am]

BILLING CODE 6717-01-P